FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 014009N.

Name: Cargofast International Inc.

Address: 80 Tanforan Avenue, Unit 18, South San Francisco, CA 94080.

Date Revoked: July 21, 2004.

Reason: Failed to maintain a valid bond.

License Number: 017958NF.

Name: DLM Ventures, Inc.

Address: 1850 NW 84th Avenue, Suite 114, Miami, FL 33126.

Date Revoked: July 17, 2004.

Reason: Failed to maintain valid bonds.

License Number: 004546F.

Name: Foreign Freight Systems Corp.

Address: 10250 NW 89th Avenue, Bay 10, Medley, FL 33178.

Date Revoked: July 20, 2004.

Reason: Failed to maintain a valid bond.

License Number: 016071N.

Name: Heron International, Inc.

Address: 2623 Autumn Springs Lane, Spring, TX 77373.

Date Revoked: July 17, 2004.

Reason: Failed to maintain a valid bond.

Sandra L. Kusumoto,
Director, Bureau of Consumer Complaints and Licensing.

[FR Doc. 04-17809 Filed 8-3-04; 8:45 am]

BILLING CODE 6730-01-P